DEPARTMENT OF HEALTH AND HUMAN SERVICES

Centers for Medicare and Medicaid Services

[Document Identifier: CMS-10109 and CMS-10114]

Agency Information Collection Activities: Submission for OMB Review; Comment Request

AGENCY: Centers for Medicare and Medicaid Services, HHS.

In compliance with the requirement of section 3506(c)(2)(A) of the Paperwork Reduction Act of 1995, the Centers for Medicare and Medicaid Services (CMS) (formerly known as the Health Care Financing Administration (HCFA), Department of Health and Human Services, is publishing the following summary of proposed collections for public comment. Interested persons are invited to send comments regarding this burden estimate or any other aspect of this collection of information, including any of the following subjects: (1) The necessity and utility of the proposed information collection for the proper performance of the agency's functions; (2) the accuracy of the estimated burden; (3) ways to enhance the quality, utility, and clarity of the information to be collected; and (4) the use of automated collection techniques or other forms of information technology to minimize the information collection burden.

1. Type of Information Collection Request: Extension of a currently approved collection; Title of Information Collection:. Hospital Reporting Initiative—Hospital Quality Measures; Use: The purpose is to collect data to produce valid, reliable, comparable and salient quality measures to provide a potent stimulus for clinicians and providers to improve the quality of care they provide. This reporting initiative in which hospitals may participate is a significant step toward a more informed public and a means to sustain health care quality improvement. The data is currently being collected from hospitals by CMS. The hospitals submitting data have volunteered to participate in public reporting. This effort places no additional data collection requirements or burdens on hospitals. Section 501(b) of the MMA offers monetary incentives for hospitals participating in reporting; Form Number: CMS-10109 (OMB#: 0938-0918); Frequency: Quarterly; Affected Public: Business or other for-profit and Not-for-profit institutions; Number of Respondents: 4,000; Total Annual Responses: 16,000; Total Annual Hours: 238,000.

2. Type of Information Collection Request: New collection; Title of Information Collection: National Provider Identifier (NPI) Application and Update Form and Supporting Regulation in 45 CFR 142.408, 162.406, and 162.408; Form No.: CMS-10114 (OMB# 0938-NEW); Use: The form will be used by health care providers to apply for NPIs and to update the information collected from them whenever it changes.; Frequency: On occasion and/or one-time; Affected Public: Business or other for-profit, Not-for-profit institutions and Federal Government; Number of Respondents: 1,193,945; Total Annual Responses: 1,193,945; Total Annual Hours: 448,128.

To obtain copies of the supporting statement and any related forms for the proposed paperwork collections referenced above, access CMS Web Site address at http://www.cms.hhs.gov/regulations/pra/, or E-mail your request, including your address, phone number, OMB number, and CMS document identifier, to Paperwork@hcfa.gov, or call the Reports Clearance Office on (410) 786-1326. Written comments and recommendations for the proposed information collections must be mailed within 30 days of this notice directly to the OMB desk officer:

OMB Human Resources and Housing Branch, Attention: Christopher Martin, New Executive Office Building, Room 10235, Washington, DC 20503.

Dated: October 7, 2004.
John P. Burke, III,
Paperwork Reduction Act Team Leader, CMS Reports Clearance Officer, Office of Strategic Operations and Regulatory Affairs, Division of Regulations Development and Issuances.

[FR Doc. 04-23122 Filed 10-14-04; 8:45 am]

BILLING CODE 4120-03-P